DEPARTMENT OF HEALTH AND HUMAN SERVICES

Administration for Children and Families

[C.F.D.A. Number: 93.591]

Standing Funding Opportunity Announcement for Family Violence Prevention and Services Grants to States for Domestic Violence Shelters and Support Services

AGENCY: Family and Youth Services Bureau (FYSB), Administration on Children, Youth, and Families (ACYF), ACF, HHS.

ACTION: This notice was originally published as Funding Opportunity Number HHH2013-ACF-ACYF-SDVC-0564 on March 5, 2013 at http://www.acf.hhs.gov/grants/open/foa/view/HHS-2013-ACF-ACYF-FVPS-0564.

SUMMARY: This announcement governs the proposed award of mandatory grants under the Family Violence Prevention and Services Act (FVPSA) to States (including territories and insular areas). The purpose of these grants is to: (1) assist States in efforts to increase public awareness about, and primary and secondary prevention of, family violence, domestic violence, and dating violence; and (2) assist States in efforts to provide immediate shelter and supportive services for victims of family violence, domestic violence, or dating violence (42 U.S.C. 10401 et seq.).

This announcement sets forth the application requirements, the application process, and other administrative and fiscal requirements for grants in Fiscal Year (FY) 2013, 2014 and 2015.

Statutory Authority: The statutory authority for this program is 42 U.S.C. 10401 through 10414 hereinafter cited by Section number only.

SUPPLEMENTARY INFORMATION:

I. Funding Opportunity Description

Description Background

The Administration on Children, Youth and Families (ACYF) is committed to facilitating healing and recovery, and promoting the social and emotional well-being of victims, children, youth, and families who have experienced domestic violence, maltreatment, exposure to violence, and trauma. An important component of promoting well-being in this regard includes addressing the impact of trauma, which can have profound impacts on coping, resiliency, and skill development. ACYF promotes a trauma-informed approach, which involves understanding and responding to the symptoms of chronic interpersonal trauma and traumatic stress across the lifespan.

This FVPSA funding opportunity announcement (FOA), administered through ACYF's Family and Youth Services Bureau (FYSB), is designed to assist States in their efforts to support the establishment, maintenance, and expansion of programs and projects: (1) To prevent incidents of family violence, domestic violence, and dating violence; (2) to provide immediate shelter, supportive services, and access to community-based programs for victims of family violence, domestic violence, or dating violence, and their dependents; and (3) to provide specialized services for children exposed to family violence, domestic violence, or dating violence, underserved populations, and victims who are members of racial and ethnic minority populations (Section 10406(a)).

The FVPSA State Formula Grant funds shall be used to identify and provide subgrants to eligible entities for programs and projects within the State that are designed to prevent incidents of family violence, domestic violence, and dating violence by providing immediate shelter and supportive services for adult and youth victims of family violence, domestic violence, or dating violence, and their dependents, and which may be used to provide prevention services to prevent future incidents of family violence, domestic violence, and dating violence (Section 10408 (a)).

FVPSA funds awarded to subgrantees should be used for:

• Provision of immediate shelter and related supportive services to adult and youth victims of family violence, domestic violence, or dating violence, and their dependents, including paying for the operating and administrative expenses of the facilities for a shelter.(Section 10408(b)(1)(A)).

• Assistance in developing safety plans and supporting efforts of victims of family violence, domestic violence, or dating violence to make decisions related to their ongoing safety and well-being (Section 10408(b)(1)(B)).

• Provision of individual and group counseling, peer support groups, and referral to community-based services to assist family violence, domestic violence, and dating violence victims, and their dependents, in recovering from the effects of the violence (Section 10408(b)(1)(C)).

• Provision of services, training, technical assistance, and outreach to increase awareness of family violence, domestic violence, and dating violence, and increase the accessibility of family violence, domestic violence, and dating violence services (Section 10408(b)(1)(D)).

• Provision of culturally and linguistically appropriate services (Section 10408(b)(1)(E)).

• Provision of services for children exposed to family violence, domestic violence, or dating violence, including age-appropriate counseling, supportive services, and services for the nonabusing parent that support that parent's role as a caregiver, which may, as appropriate, include services that work with the nonabusing parent and child together (Section 10408(b)(1)(F)).

• Provision of advocacy, case management services, and information and referral services, concerning issues related to family violence, domestic violence, or dating violence intervention and prevention, including: (1) Assistance in accessing related Federal and State financial assistance programs; (2) legal advocacy to assist victims and their dependents; (3) medical advocacy, including provision of referrals for appropriate health care services (including mental health, alcohol, and drug abuse treatment), which does not include reimbursement for any health care services; (4) assistance locating and securing safe and affordable permanent housing and homelessness prevention services; (5) transportation, child care, respite care, job training and employment services, financial literacy services and education, financial planning, and related economic empowerment services; and (6) parenting and other educational services for victims and their dependents (Section 10408(b)(1)(G)).

• Provision of prevention services, including outreach to underserved populations (Section 10408(b)(1)(H)).

In the distribution of FVPSA grant funds, the State should ensure that not less than 70 percent of the funds distributed are used for the primary purpose of providing immediate shelter and supportive services to adult and youth victims of family violence, domestic violence, or dating violence, and their dependents; not less than 25 percent of the funds will be used for the purpose of providing supportive services and prevention services (Section 10408(b)(2)); and not more than 5 percent of the FVPSA grant funds should be used for State administrative costs (Section 10406(b)(1)).

Ensuring the Well-Being of Vulnerable Children and Families

ACYF is committed to facilitating healing and recovery, and promoting the social and emotional well-being of children, youth, and families who have experienced maltreatment, exposure to violence, and/or trauma. This FOA and other discretionary spending this fiscal year are designed to ensure that effective interventions are in place to build skills and capacities that contribute to the healthy, positive, and productive functioning of families.

Children, youth, and families who have experienced maltreatment, exposure to violence, and/or trauma are impacted along several domains, each of which must be addressed in order to foster social and emotional well-being and promote healthy, positive functioning:

Understanding Experiences: A fundamental aspect of the human experience is the development of a world view through which one's experiences are understood. Whether that perspective is generally positive or negative impacts how experiences are interpreted and integrated. For example, one is more likely to approach a challenge as a surmountable, temporary obstacle if his or her frame includes a sense that “things will turn out alright.” On the contrary, negative experiences can color how future experiences are understood. Ongoing exposure to family violence might lead children, youth, and adults to believe that relationships are generally hostile in nature and affect their ability to enter into and stay engaged in safe and healthy relationships. Interventions should seek to address how children, youth, and adults frame what has happened to them in the past and shape their beliefs about the future.

• Developmental Tasks: People grow physically and psychosocially along a fairly predictable course, encountering normal challenges and establishing competencies as they pass from one developmental stage to another. However, adverse events have a marked effect on the trajectory of normal social and emotional development, delaying the growth of certain capacities, and, in many cases, accelerating the maturation of others. Intervention strategies must be attuned to the developmental impact of negative experiences and address related strengths and deficits to ensure children, youth, and families develop along a healthy trajectory.

• Coping Strategies: The methods that children, youth, and families develop to manage challenges both large and small are learned in childhood, honed in adolescence, and practiced in adulthood. Those who have been presented with healthy stressors and opportunities to overcome them with appropriate encouragement and support are more likely to have an array of positive, productive coping strategies available to them as they go through life. For children, youth, and families who grow up in or currently live in unsafe, unpredictable environments, the coping strategies that may have been protective in that context may not be appropriate for safer, more regulated situations. Interventions should help children, youth, and families transform maladaptive coping methods into healthier, more productive strategies.

• Protective Factors: A wealth of research has demonstrated that the presence of certain contextual factors (e.g., supportive relatives, involvement in after-school activities) and characteristics (e.g., self-esteem, relationship skills) can moderate the impacts of past and future negative experiences. These protective factors are fundamental to resilience; building them is integral to successful intervention with children, youth, and families.

The skills and capacities in these areas support children, youth, and families as challenges, risks, and opportunities arise. In particular, each domain impacts the capacity of children, youth, and families to establish and maintain positive relationships with caring adults and supportive peers. The necessity of these relationships to social and emotional well-being and lifelong success in school, community, and at home cannot be overstated and should be central to all interventions with vulnerable children, youth, and families.

An important component of promoting social and emotional well-being includes addressing the impact of trauma, which can have a profound effect on the overall functioning of children, youth, and families. ACYF promotes a trauma-informed approach, which involves understanding and responding to the symptoms of chronic interpersonal trauma and traumatic stress across the domains outlined above, as well as the behavioral and mental health sequelae of trauma.

ACYF anticipates a continued focus on social and emotional well-being as a critical component of its overall mission to ensure positive outcomes for all children, youth, and families.

Annual FVPSA State Administrators Grantee Meeting

FVPSA State Administrators shall plan to attend the annual grantee meeting. The State FVPSA Administrators meeting is a training and technical assistance activity focusing on FVPSA administrative issues as well as the promotion of evidence informed and promising practices to address family violence, domestic violence, or dating violence. Subsequent correspondence will advise the FVPSA State Administrators of the date, time, and location of their grantee meeting.

Client Confidentiality

In order to ensure the safety of adult, youth, and child victims of family violence, domestic violence, or dating violence, and their families, FVPSA-funded programs must establish and implement policies and protocols for maintaining the confidentiality of records pertaining to any individual provided domestic violence services. Consequently, when providing statistical data on program activities and program services, individual identifiers of client records will not be used by the State or other FVPSA grantees or subgrantees (Section 10406(c)(5)).

In the annual grantee Performance Progress Report (PPR), States and subgrantees must collect unduplicated data from each program rather than unduplicated data across programs or statewide. No client-level data should be shared with a third party, regardless of encryption, hashing, or other data security measures, without a written, time-limited release as described in section 10406(c)(5). The address or location of any FVPSA-supported shelter facility shall not be made public except with written authorization of the person or persons responsible for the operation of such shelter, (See Section 10406(c)(5)(H)) and the confidentiality of records pertaining to any individual provided domestic violence services by any FVPSA-supported program will be strictly maintained.

Coordinated and Accessible Services

It is essential that community service providers, including those serving or representing underserved communities, are involved in the design and improvement of intervention and prevention activities identified in the state plan. Coordination and collaboration among victim services providers; community-based, culturally specific, and faith-based services providers; housing and homeless services providers; and Federal, State, and local public officials and agencies is needed for an effective state planning process and to provide more responsive and effective services to victims of family violence, domestic violence, and dating violence, and their dependents. It is expected that the communities and organizations noted above will be included in committees or other activities to ensure they are part of the planning and decision making to create and maintain fully coordinated and accessible services.

To promote a more effective response to family violence, domestic violence, and dating violence, States receiving funds under this grant announcement must collaborate with State Domestic Violence Coalitions and community-based organizations and should collaborate with tribes, tribal organizations, and service providers, to address the needs of victims of family violence, domestic violence, and dating violence, and for those who are members of racial and ethnic minority populations and underserved populations (See Section 10407(a)(2)).

To serve victims most in need and to comply with Federal law, services must be widely accessible to all. Service providers must not discriminate on the basis of age, disability, sex, race, color, national origin, or religion (Section 10406(c)(2)). The HHS Office for Civil Rights provides guidance to grantees complying with these requirements. Please see http://www.hhs.gov/ocr/civilrights for HHS Office of Civil Rights guidance on serving immigrant victims and http://www.hhs.gov/ocr/civilrights/understanding/disability/index.html for guidance on the Americans with Disabilities Act and Rehabilitation Act of 1973. Services must also be provided on a voluntary basis; receipt of emergency shelter or housing must not be conditioned on participation in supportive services (Section 10408(d)(2)).

Definitions

States should use the following definitions in carrying out their programs (Section 10402).

Dating Violence: Violence committed by a person who is or has been in a social relationship of a romantic or intimate nature with the victim and where the existence of such a relationship shall be determined based on a consideration of the length of the relationship, the type of relationship, and the frequency of interaction between the persons involved in the relationship.

Domestic Violence: Felony or misdemeanor crimes of violence committed by a current or former spouse of the victim, by a person with whom the victim shares a child in common, by a person who is cohabitating with or has cohabitated with the victim as a spouse, by a person similarly situated to a spouse of the victim under the domestic or family violence laws of the jurisdiction receiving grant monies, or by any other person against an adult or youth victim who is protected from that person's acts under the domestic or family violence laws of the jurisdiction.

Family Violence: Any act or threatened act of violence, including any forceful detention of an individual that: (a) results or threatens to result in physical injury; and (b) is committed by a person against another individual (including an elderly individual) to or with whom such person is related by blood, or is or was related by marriage, or is or was otherwise legally related, or is or was lawfully residing.

Shelter: The provision of temporary refuge and supportive services in compliance with applicable State law (including regulation) governing the provision, on a regular basis, of shelter, safe homes, meals, and supportive services to victims of family violence, domestic violence, or dating violence, and their dependents.

Supportive Services: Services for adult and youth victims of family violence, domestic violence, or dating violence, and dependents exposed to family violence, domestic violence, or dating violence, that are designed to:

• Meet the needs of victims of family violence, domestic violence, or dating violence, and their dependents, for short-term, transitional, or long-term safety; and

• Provide counseling, advocacy, or assistance for victims of family violence, domestic violence, or dating violence, and their dependents.

II. Award Information

For FY 2013, HHS will make available for grants to designated State agencies 70 percent of the amount appropriated under section 10403(a)(1) of FVPSA, which is not reserved under Section 10403(a)(2). In FY 2012, ACYF awarded $90,682,686 to State agencies for these purposes. In separate announcements, ACYF will allocate 10 percent of the foregoing appropriation to tribes and tribal organizations for the establishment and operation of shelters, safe houses, and the provision of supportive services; and 10 percent to the State Domestic Violence Coalitions to continue their work within the domestic violence community by providing technical assistance and training, needs assessment, and advocacy services, among other activities with local domestic violence programs, and to encourage appropriate responses to domestic violence within the States. Six percent of the amount appropriated under section 10403(c) of FVPSA, and reserved under section 10403(a)(2)(c), will be available in FY 2013 to continue the support for the two National Resource Centers (NRCs), four Special Issue Resource Centers (SIRCs), and the three Culturally Specific Special Issue Resource Centers (CSSIRCs). Additionally, funds appropriated under FVPSA will be used to support other activities, including training and technical assistance, collaborative projects with advocacy organizations and service providers, data collection efforts, public education activities, research and other demonstration projects, as well as the ongoing operation of the National Domestic Violence Hotline.

State Allocation

FVPSA grants to the States, the District of Columbia, and the Commonwealth of Puerto Rico are based on a population formula. Each State grant shall be $600,000, with the remaining funds allotted to each State on the same ratio as the population of the State to the population of all States (Section 10405(a)(2)). State populations are determined on the basis of the most recent census data available to the Secretary of HE-IS, and the Secretary shall use for such purpose, if available, the annual current interim census data produced by the Secretary of Commerce pursuant to 13 U.S.C. 181.

For the purpose of computing allotments, the statute provides that Guam, American Samoa, the Virgin Islands, and the Commonwealth of the Northern Mariana Islands will each receive grants of not less than one-eighth of one percent of the amount appropriated for formula grants to States (Section 10405(a)(1)).

Match

Grants funded by the States will meet the matching requirements in Section 10406(c)(4). No grant shall be made to any entity other than a State unless the entity agrees that, with respect to the cost to be incurred by the entity in carrying out the program or project for which the grant is awarded, the entity will make available (directly or through donations from public or private entities) non-Federal contributions in an amount that is not less than $1 for every $5 of federal funds provided under the grant. The non-Federal contributions required may be in cash or in kind.

Length of Project Periods

24 Months.

Expenditure Period

FVPSA funds may be used for expenditures on and after October 1 of each fiscal year for which they are granted and will be available for expenditure through September 30 of the following fiscal year, i.e., FY 2013 funds may be used for expenditures from October 1, 2012, through September 30, 2014; FY 2014 funds from October 1, 2013, through September 30, 2015; and FY 2015 funds from October 1, 2014, through September 30, 2016. Funds will be available for obligations only through FY 2013: September 30, 2014; FY 2014: September 30, 2015 and FY 2015: September 30, 2016, and must be liquidated by FY 2013: December 30, 2014; FY 2014: December 30, 2015; and FY 2015: December 30, 2016.

Re-allotted funds, if any, are available for expenditure until the end of the fiscal year following the fiscal year that the funds became available for re-allotment. FY 2013 grant funds that are made available to the States through re-allotment, under section 10405(d), must be expended by the State no later than September 30, 2014; FY 2014 funds must be expended no later than September 30, 2015; and FY 2015 funds must be expended no later than September 30, 2016.

III. Eligibility Information

“States,” as defined in section 10402 of FVPSA, are eligible to apply for funds. The term “State” means each of the 50 States, the District of Columbia, the Commonwealth of Puerto Rico, Guam, American Samoa, the Virgin Islands, and the Commonwealth of the Northern Mariana Islands.

In the past, Guam, the Virgin Islands, the Commonwealth of the Northern Mariana Islands, and American Samoa have applied for funds as a part of their consolidated grant under the Social Services Block Grant. These jurisdictions need not submit an application under this program announcement if they choose to have their allotment included as part of a consolidated grant application; however, they are required to submit a Performance Progress Report using the standardized format.

Additional Information on Eligibility

DUNS Number Requirement

Data Universal Numbering System (DUNS) Number is the nine-digit, or thirteen-digit (DUNS + 4), number established and assigned by Dun and Bradstreet, Inc. (D&B) to uniquely identify business entities.

All applicants and sub-recipients must have a DUNS number at the time of application in order to be considered for a grant or cooperative agreement. A DUNS number is required whether an applicant is submitting a paper application or using the Government-wide electronic portal, www.Grants.gov. A DUNS number is required for every application for a new award or renewal/continuation of an award, including applications or plans under formula, entitlement, and block grant programs. A DUNS number may be acquired at no cost online at http://fedgov.dnb.com/webform. To acquire a DUNS number by phone, contact the D&B Government Customer Response Center: U.S. and U.S. Virgin Islands: 1-866-705-5711. Alaska and Puerto Rico: 1-800-234-3867 (Select Option 2, then Option 1) Monday-Friday 7 a.m. to 8 p.m., CST.

The process to request a DUNS Number by telephone will take between 5 and 10 minutes.

SAM Requirement (www.Sam.gov)

The System for Award Management (SAM) at www.sam.gov is a new system that consolidates the capabilities of a number of systems that support Federal procurement and award processes. Phase 1 of SAM includes the capabilities previously provided via Central Contractor Registration (CCR)/Federal Agency Registration (FedReg), Online Representations and Certifications Application (ORCA), and the Excluded Parties List System (EPLS).

SAM is the Federal registrant database and repository into which an entity must provide information required for the conduct of business as a recipient. The former CCR Web site is no longer be available. All information previously held in the Central Contractor Registration (CCR) system has been migrated to SAM.gov.

Applicants may register at www.sam.gov or by phone at 1-866-606-8220. Registration assistance is available through the “Help” tab at www.sam.gov or by phone at 1-866-606-8220.

Applicants are strongly encouraged to register at SAM well in advance of the application due date. Registration at SAM.gov must be updated annually.

Note: It can take 24 hours or more for updates to registrations at SAM.gov to take effect. An entity's registration will become active after 3-5 days. Therefore, check for active registration well before the application due date and deadline. An applicant can view their registration status by visiting https://www.bpn.gov/PublicSearch.aspx and searching by their organization's DUNS number.

See the SAM Quick Guide for Grantees at https://www.sam.gov/sam/transcript/SAM_Quick_Guide_Grants_Registrations-v1.6.pdf requires all entities that plan to apply for, and ultimately receive, Federal grant fluids from any HHS Agency, or receive subawards directly from recipients of those grant funds to:

• Be registered in at Sam.gov prior to submitting an application or plan;

• Maintain an active registration at www.sam.gov with current information at all times during which it has an active award or an application or plan under consideration by an HHS agency; and

• Provide its active DUNS number in each application or plan it submits to an HHS agency.

ACF is prohibited from making an award to an applicant that has not complied with these requirements. If, at the time of an award is ready to be made, and the intended recipient has not complied with these requirements, ACF:

• May determine that the applicant is not qualified to receive an award; and

• May use that determination as a basis for making an award to another applicant.

Additionally, all first-tier subaward recipients (i.e., direct subrecipients) must have an active DUNS number at the time the subaward is made.

IV. Application Requirements

Content of Application Submission

The State's application must be submitted by the chief executive officer of the State and must contain the following information or documentation (Section 10407(a)(1)):

(1) The name and complete address of the State agency; the name and contact information for the official designated as responsible for the administration of FVPSA programs and activities relating to family violence, domestic violence, and dating violence that are carried out by the State and for coordination of related programs within the State; the name and contact information for a contact person if different from the designated official (Section 10407(a)(2)(G)).

(2) A plan describing how the State will involve community-based organizations whose primary purpose is to provide culturally appropriate services to underserved populations, including how such community-based organizations can assist the State in identifying and addressing the unmet needs of such populations, including involvement in the State planning process and other ongoing communications (Section 10407(a)(2)(E)).

(3) A plan describing how the State will provide specialized services including trauma-informed services for children exposed to family violence, domestic violence, or dating violence, underserved populations, and victims who are members of racial and ethnic minority populations (Section 10406(a)(3)).

(4) A plan describing in detail how the needs of underserved populations will be met (Section 10406(a)(3)). “Underserved populations” include populations underserved because of geographic location (such as rural isolation); underserved racial and ethnic populations; populations underserved because of special needs (such as language bathers, disabilities, immigration status, or age); lesbian, gay, bisexual, or transgender (LGBT) individuals; at-risk youth; or victims with disabilities and any other population determined to be underserved by the Statewide needs assessment, the state planning process, or the Secretary of HHS (Section 10402(14)). The State plan should:

(a) Identify which populations in the State are currently underserved, and the process used to identify underserved population; describe those that are being targeted for outreach and services; and provide a brief explanation of why those populations were selected to receive outreach and services.

(b) Describe the outreach plan, including the domestic violence training to be provided, the means for providing technical assistance and support, and the leadership role played by those representing and serving the underserved populations in question.

(c) Describe the specific services to be provided or enhanced, including new shelters or services, improved access to shelters or services, or new services for underserved populations such as victims from communities of color, immigrant victims, LGBT individuals, adolescents, at-risk youth, or victims with disabilities.

(5) Include a description of how the State plans to use the grant funds; a description of the target populations; the number of shelters to be funded; the number of nonresidential programs to be funded; the services the State's subgrantees will provide; and the expected results from the use of the grant funds as required by Sections 10407(a)(2)(F) and 10408(b).

(6) Describe the plan to assure an equitable distribution of grants and grant funds within the State and between urban and rural areas within such State (Section 10407(a)(2)(C)).

(7) Provide complete documentation of consultation with and participation of the State Domestic Violence Coalition in the State planning process and monitoring of the distribution of grants and the administration of grant programs and projects (Section 10407(a)(2)(D)).

(8) Provide complete documentation of policies, procedures, and protocols that ensure personally identifying information will not be disclosed when providing statistical data on program activities and program services; the confidentiality of records pertaining to any individual provided family violence prevention services by any FVPSA-supported program will be maintained; and the address or location of any FVPSA-supported shelter will not be made public without the written authorization of the person or persons responsible for the operation of such shelter (Sections 10407(a)(2)(A) and 10406(c)(5)).

(9) Provide a copy of the law or procedures, such as a process for obtaining an order of protection, that the State has implemented for the barring of an abuser from a shared household (Section 10407(a)(2)(H)).

(10) Applicants must include a signed copy of the assurances as required by Section 10407(a)(2)(B) (See Appendix A).

Forms, Assurances, Certifications and Policy

Applicants seeking financial assistance under this announcement must submit the listed Standard Forms (SFs), assurances, and certifications. All required Standard Forms and certifications are available at Grants.gov Forms Repository unless specified otherwise. Each application must provide a signed copy of the additional assurance and policy in Appendices A and B, respectively.

Forms/certifications | Description | Where found
Certification Regarding Lobbying | Required of all applicants at the time of their application. If not available with the application, it must be submitted prior to the award of the grant | Available at http://www.acf.hhs.gov/grants-forms.
SF-LLL—Disclosure of Lobbying Activities | If any funds have been paid or will be paid to any person for influencing or attempting to influence an officer or employee of any agency, a Member of Congress, an officer or employee of Congress, or an employee of a Member of Congress in connection with this commitment providing for the United States to insure or guarantee a loan, the applicant shall complete and submit the SF-LLL, “Disclosure Form to Report Lobbying,” in accordance with its instructions. Applicants must furnish an executed copy of the Certification Regarding Lobbying prior to award | “Disclosure Form to Report Lobbying” is available at http://www.acf.hhs.gov/grants-forms.
Survey on Ensuring Equal Opportunity for Applicants | Non-profit private organizations (not including private universities) are encouraged to submit the survey with their applications. Submission of the survey is voluntary. Applicants applying electronically may submit the survey along with the application as part of an appendix or as a separate document. Hard copy submissions should include the survey in a separate envelope | Available at http://www.acf.hhs.gov/grants-forms.
The needs of lesbian, gay, bisexual, transgender, and questioning youth are taken into consideration in applicants program design | See Appendix B for submission requirements | See Appendix B for the complete policy description.

Paperwork Reduction Disclaimer

As required by the Paperwork Reduction Act, 44 U.S.C. 3501-3520, the public reporting burden for the project description is estimated to average 10 hours per response hours per response, including the time for reviewing instructions, gathering and maintaining the data needed, and reviewing the collection of information. The Project Description information collection is approved under OMB control number 0970-0280, which expires November 30, 2014. An agency may not conduct or sponsor, and a person is not required to respond to, a collection of information unless it displays a currently valid OMB control number.

Intergovernmental Review of Federal Programs

For States, this program is covered under Executive Order 12372, “Intergovernmental Review of Federal Programs,” for State plan consolidation and implication only—45 CFR 100.12. The review and comment provisions of the Executive Order and Part 100 do not apply.

Funding Restrictions

The Consolidated Appropriations Act, 2012 (Pub. L. 112-74), enacted December 23, 2011, limits the salary amount that may be awarded and charged to ACF mandatory and discretionary grants. Award funds issued under this announcement may not be used to pay the salary, or any percentage of salary, to an individual at a rate in excess of Executive Level II. The Executive Level II salary of the Federal Executive Pay scale is $179,700 (http://www.opm.gov/oca/12tables/html/ex.asp) his amount reflects an individual's base salary exclusive of fringe benefits and any income that an individual may be permitted to earn outside of the duties to the applicant organization. This salary limitation also applies to subawards/subcontracts under an ACF mandatory and discretionary grant.

Costs of organized fund raising, including financial campaigns, endowment drives, solicitation of gifts and bequests, and similar expenses incurred solely to raise capital or obtain contributions, are considered unallowable costs under grants awarded under this announcement. Construction is not an allowable activity or expenditure under this grant award.

Application Submission

Applications should be sent or delivered to: Administration for Children and Families, Administration on Children, Youth and Families, Family and Youth Services Bureau, Family Violence Prevention and Services Program, ATTN: Edna James, 1250 Maryland Avenue SW., Suite 8214, Washington, DC 20024.

V. Award Administration Information

Approval/Disapproval of State Application

The Secretary of HHS will approve any application that meets the requirements of FVPSA and this announcement and will not disapprove any such application except after reasonable notice of the Secretary's intention to disapprove has been provided to the applicant and after a 6-month period providing an opportunity for the applicant to correct any deficiencies. The notice of intention to disapprove will be provided to the applicant within 45 days of the date of the application.

Administrative and National Policy Requirements

Awards issued under this announcement are subject to the uniform administrative requirements and cost principles of 45 CFR part 74 (Awards And Subawards To Institutions Of Higher Education, Hospitals, Other Nonprofit Organizations, And Commercial Organizations) or 45 CFR part 92 (Grants And Cooperative Agreements To State, Local, And Tribal Governments). The Code of Federal Regulations (CFR) is available at www.gpo.gov.

An application funded with the release of Federal funds through a grant award, does not constitute, or imply, compliance with Federal regulations. Funded organizations are responsible for ensuring that their activities comply with all applicable Federal regulations.

Equal Treatment for FaithBased Organizations

Grantees are also subject to the requirements of 45 CFR 87.1(c), Equal Treatment for Faith-Based Organizations, which says, “Organizations that receive direct financial assistance from the [Health and Human Services] Department under any Department program may not engage in inherently religious activities, such as worship, religious instruction, or proselytization, as part of the programs or services funded with direct financial assistance from the Department.” Therefore, organizations must take steps to completely separate the presentation of any program with religious content from the presentation of the Federally funded program by time or location in such a way that it is clear that the two programs are separate and distinct. If separating the two programs by time but presenting them in the same location, one program must completely end before the other program begins.

A faith-based organization receiving Ill-IS funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of HHS-funded activities.

Regulations pertaining to the Equal Treatment for Faith-Based Organizations, which includes the prohibition against Federal funding of inherently religious activities, “Understanding the Regulations Related to the Faith-Based and Neighborhood partnerships Initiative” are available at www.hhs.gov/partnerships/about/regulations/. Additional information, resources, and tools for faith-based organizations are available through The Center for Faith-based and Neighborhood Partnerships Web site at www.hhs.gov/partnerships/index.html and at the Administration for Children & Families: Toolkit for Faith-based and Community Organizations at www.acf.hhs.gov/programs/ocs/resource/capacity-building-toolkits-for-faith-based-and-community-organizations.

Requirements for DrugFree Workplace

The Drug-Free Workplace Act of 1988 (41 U.S.C. 8102 et seq.) requires that all organizations receiving grants from any Federal agency agree to maintain a drug-free workplace. By signing the application, the Authorizing Official agrees that the grantee will provide a drug-free workplace and will comply with the requirement to notify ACF if an employee is convicted of violating a criminal drug statute. Failure to comply with these requirements may be cause for debarment. Government-wide requirements for Drug-Free Workplace for Financial Assistance are found in 2 CFR part 182; HHS implementing regulations are set forth in 2 CFR 382.400. All recipients of ACF grant funds must comply with the requirements in Subpart B—Requirements for Recipients Other Than Individuals, 2 CFR 382.225. The rule is available at http://ecfr.gpoaccess.gov/cgi/t/text/text-idx?c=ecfr;sid=18b5801410be6af416dc258873ffb7ec;rgn=div2;view=text;node=20091112%3A1.1;idno=49;cc=ecfr.

Debarment and Suspension

HHS regulations published in 2 CFR part 376 implement the government-wide debarment and suspension system guidance (2 CFR part 180) for HHS' non-procurement programs and activities. “Non-procurement transactions” include, among other things, grants, cooperative agreements, scholarships, fellowships, and loans. ACF implements the HHS Debarment and Suspension regulations as a term and condition of award. Grantees may decide the method and frequency by which this determination is made and may check the Excluded Parties List System (EPLS) located at www.sam.gov/ checking the EPLS is not required. More information is available at https://www.acf.hhs.gov/grants-forms.

Pro-Children Act

The Pro-Children Act of 2001, 20 U.S.C. 7181 through 7184, imposes restrictions on smoking in facilities where federally funded children's services are provided. HHS grants are subject to these requirements only if they meet the Act's specified coverage. The Act specifies that smoking is prohibited in any indoor facility (owned, leased, or contracted for) used for the routine or regular provision of kindergarten, elementary, or secondary education or library services to children under the age of 18. In addition, smoking is prohibited in any indoor facility or portion of a facility (owned, leased, or contracted for) used for the routine or regular provision of federally funded health care, day care, or early childhood development, including Head Start services to children under the age of 18. The statutory prohibition also applies if such facilities are constructed, operated, or maintained with Federal funds. The statute does not apply to children's services provided in private residences, facilities funded solely by Medicare or Medicaid funds, portions of facilities used for inpatient drug or alcohol treatment, or facilities where WIC coupons are redeemed. Failure to comply with the provisions of the law may result in the imposition of a civil monetary penalty of up to $1,000 per violation and/or the imposition of an administrative compliance order on the responsible entity.

VI. Reporting Requirements

Performance Progress Reports (PPR)

States are required to submit an annual performance progress report to ACYF describing the activities carried out and an assessment of the effectiveness of those activities in achieving the purposes of the grant (Section 10406(d)). Further guidance regarding the assessment requirement is included in the PPR. A section of this performance report must be completed by each grantee or subgrantee that provided program services and activities. State grantees should compile subgrantee performance reports into a comprehensive report for submission. A copy of the required PPR can be found at https://www.acf.hhs.gov/programs/fysb/resource/ppr-state-fvpsa. the past, Guam, the Virgin Islands, the Commonwealth of the Northern Mariana Islands, and American Samoa have applied for FVPSA funds as a part of their consolidated grant under the Social Services Block Grant. These jurisdictions need not submit an application under this program announcement if they choose to have their allotment included as part of a consolidated grant application; however, they are required to submit an annual PPR using the standardized format.

PPRs for the States and Territories are due on an annual basis at the end of the calendar year (December 29). Grantees should submit their reports online through the Online Data Collection (OLDC) system at the following address: https://extranet.acf.hhs.gov/ssi/ with a copy sent to: Administration for Children and Families, Administration on Children, Youth and Families, Family and Youth Services Bureau, Family Violence Prevention and Services Program, ATTN: Edna James, 1250 Maryland Avenue SW., Room 8214, Washington, DC 20024.

Please note that section 10407(bX4) of FVPSA requires HHS to suspend funding for an approved application if any State applicant fails to submit an annual PPR or if the funds are expended for purposes other than those set forth under this announcement.

Federal Financial Reports (FFR)

Grantees must submit annual Financial Status Reports (SF-425). The first SF-425A is due December 29, 2013, 2014, and 2015. The final SF-425A is due December 29, 2014, 2015, and 2016. SF-425A can be found at: http://acf.gov/grants-forms.

Completed reports may be mailed to: Deborah Bell, Division of Mandatory Grants Office of Grants Management Administration for Children and Families, 370 LEnfant Promenade SW., 6th Floor, Washington, DC 20447. Grantees have the option of submitting their reports online through the Online Data Collection (OLDC) system at the following address: https://extranet.acf.hhs.gov/ssi.

Failure too submit reports on time may be a basis for withholding grant funds, or suspension or termination of the grant. All funds reported as unobligated after the obligation period will be recouped.

Finable versions of the SF-425 form in Adobe PDF and MS-Excel formats, along with instructions, are available at http://acf.gov/grants-forms and at http://www.whitehouse.gov/omb/grants_forms.

FFATA Subaward and Executive Compensation

Awards issued as a result of this funding opportunity may be subject to the Transparency Act subaward and executive compensation reporting requirements of 2 CFR part 170. See ACF's Award Term for Federal Financial Accountability and Transparency Act (FFATA) Subaward and Executive Compensation Reporting Requirement implementing this requirement and additional award applicability information.

ACF has implemented the use of the SF-428 Tangible Property Report and the SF-429 Real Property Status Report for all grantees. Both standard forms are available at http://www.whitehouse.gov/omb/grants_forms.

VII. Agency Contact

Program Office Contact

FOR FURTHER INFORMATION CONTACT: Edna James at (202) 205-7750 or Edna.James@acf.hhs.gov.

Bryan Samuels,
Commissioner, Administration on Children, Youth and Families.

Appendix A

Assurances of Compliance with Grant Requirements

The undersigned grantee certifies that:

(1) Grant funds under the Family Violence Prevention Services Act (FVPSA) will be distributed to local public agencies or nonprofit private organizations (including faith-based and charitable organizations, community-based organizations, and voluntary associations) that assist victims of family violence, domestic violence, or dating violence (as defined in Section 10402(2-4), and their dependents, and have a documented history of effective work concerning family violence, domestic violence, or dating violence (Section 10408(c)).

(2) Grant funds will be used for programs and projects within the State that are designed to prevent incidents of family violence, domestic violence, and dating violence by providing immediate shelter and supportive services and access to community-based programs for adult and youth victims, as well as specialized services for children exposed to domestic violence, underserved populations, and those who are members of racial and ethnic minority populations (as defined in Section 10406(a)(1-3)).

(3) In distributing the funds, the State will give special emphasis to the support of community-based projects of demonstrated effectiveness carried out by non-profit, private organizations, and that have as their primary purpose the operation of shelters for victims of family violence, domestic violence, and dating violence, and their dependents or those which provide counseling, advocacy, and self-help services to victims of family violence, domestic violence, and dating violence, and their dependents (Section 10407(a)(2)(B)(iii)).

(4) Not less than 70 percent of the funds distributed shall be for the primary purpose of providing immediate shelter and supportive services to adult and youth victims of family violence, domestic violence, or dating violence, and their dependents (Section 10408(b)(2)).

(5) Not less than 25 percent of the funds distributed shall be for the purpose of providing supportive services and prevention services as described in Section 10408(b)(2)to victims of family violence, domestic violence, or dating violence, and their dependents).

(6) Not more than 5 percent of the funds will be used for State administrative costs (Section 10407(a)(2)(b)(i)).

(7) The State grantee is in compliance with the statutory requirements of Section 10407(a)(2)(C), regarding the equitable distribution of grants and grant funds within the State and between urban and rural areas within the State.

(8) The State will consult with and provide for the participation of the State Domestic Violence Coalition in the planning and monitoring of the distribution of grant funds and the administration of the grant programs and projects (Section 10407(a)(2)(D)).

(9) Grant funds made available under this program by the State will not be used as direct payment to any victim of family violence, domestic violence, or dating violence, or to any dependent of such victim (Section 10408(d)(1)).

(10) No income eligibility standard will be imposed on individuals with respect to eligibility for assistance or services supported with funds appropriated to carry out the FVPSA (Section 10406(c)(3)).

(11) No fees will be levied for assistance or services provided with funds appropriated to carry out the FVPSA (Section 10406(c)(3)).

(12) The address or location of any shelter or facility assisted under the FVPSA that otherwise maintains a confidential location will, except with written authorization of the person or persons responsible for the operation of such shelter, not be made public (Section 10406(c)(5)(H)).

(13) The applicant has established policies, procedures, and protocols to ensure compliance with the provisions of Section 10406(c)(5) regarding non-disclosure of confidential or private information (Section 10407(a)(2)(A)).

(14) Pursuant to Section 10406(c)(5), the applicant will comply with requirements to ensure the non-disclosure of confidential or private information, which include, but are not limited to: (1) Grantees will not disclose any personally identifying information collected in connection with services requested (including services utilized or denied), through grantee's funded activities or reveal personally identifying information without informed, written, reasonably time-limited consent by the person about whom information is sought, whether for the FVPSA-funded activities or any other Federal or State program and in accordance with Section 10406(c)(5)(B)(ii); (2) grantees will not release information compelled by statutory or court order unless adhering to the requirements of Section10406(c)(5)(C); (3) grantees may share non-personally identifying information in the aggregate for the purposes enunciated in Section 10406(c)(5)(D)(i) as well as for other purposes found in Section 10406(c)(5)(D)(ii) and (iii).

(15) Grants funded by the State in whole or in part with funds made available under the FVPSA will prohibit discrimination on the basis of age, disability, sex, race, color, national origin, or religion (Section 10406(c)(2)).

(16) Funds made available under the FVPSA will be used to supplement and not supplant other Federal, State, and local public funds expended to provide services and activities that promote the objectives of the FVPSA (Section 10406(c)(6)).

(17) Receipt of supportive services under the FVPSA will be voluntary. No condition will be applied for the receipt of emergency shelter as described in Section 10408(d)(2)).

(18) The State grantee has a law or procedure to bar an abuser from a shared household or a household of the abused person, which may include eviction laws or procedures (Section 10407(a)(2)(H)).

Signature

Title

Organization

Appendix B

LGBTQ Accessibility Policy

As the Authorized Organizational Representative (AOR) signing this application on behalf of [Insert full, formal name of applicant organization]

I hereby attest and certify that:

The needs of lesbian, gay, bisexual, transgender, and questioning program participants are taken into consideration in applicant's program design. Applicant considered how its program will be inclusive of and non-stigmatizing toward such participants. If not already in place, awardee and, if applicable, sub-awardees must establish and publicize policies prohibiting harassment based on race, sexual orientation, gender, gender identity (or expression), religion, and national origin. The submission of an application for this funding opportunity constitutes an assurance that applicants have or will put such policies in place within 12 months of the award. Awardees should ensure that all staff members are trained to prevent and respond to harassment or bullying in all forms during the award period. Programs should be prepared to monitor claims, address them seriously, and document their corrective action(s) so all participants are assured that programs are safe, inclusive, and non-stigmatizing by design and in operation. In addition, any sub-awardees or subcontractors:

• Have in place or will put into place within 12 months of the award policies prohibiting harassment based on race, sexual orientation, gender, gender identity (or expression), religion, and national origin;

• Will enforce these policies;

• Will ensure that all staff will be trained during the award period on how to prevent and respond to harassment or bullying in all forms, and;

• Have or will have within 12 months of the award, a plan to monitor claims, address them seriously, and document their corrective action(s).

Insert Date of Signature:

Print Name and Title of the AOR:

Signature of AOR:

[FR Doc. 2013-08711 Filed 4-17-13; 8:45 am]

BILLING CODE 4184-32-P